SECURITIES AND EXCHANGE COMMISSION

[Release No. 34-73669; File No. SR-NYSEMKT-2014-81]

Self-Regulatory Organizations; NYSE MKT LLC; Notice of Designation of a Longer Period for Commission Action on a Proposed Rule Change, as Modified by Amendment No. 1 Thereto, Amending Rule 902.1NY To Authorize the Exchange To Share Any User-Designated Risk Settings in Exchange Systems With the Clearing Member That Clears Transactions on Behalf of the User

November 21, 2014.

On September 19, 2014, NYSE MKT LLC, (“NYSE MKT” or “Exchange”) filed with the Securities and Exchange Commission (the “Commission”), pursuant to Section 19(b)(1) of the Securities Exchange Act of 1934 (“Act”) ¹ and Rule 19b-4 thereunder,² a proposed rule change to amend Rule 902.1NY to authorize the Exchange to share any User-designated risk settings in Exchange systems with the Clearing Member ³ that clears transactions on behalf of the User.⁴ The proposed rule change was published for comment in the Federal Register on October 7, 2014.⁵ On November 19, 2014, the Exchange also submitted Amendment No. 1 to the proposed rule change. The Commission received one comment on the proposed rule change.

¹ 15 U.S.C. 78s(b)(1).

² 17 CFR 240.19b-4.

³ See Exchange Rule 900.2NY (11) defining “Clearing Member” as “an Exchange ATP Holder which has been admitted to membership in the Options Clearing Corporation pursuant to the provisions of the Rules of the Options Clearing Corporation.”

⁴ See Exchange Rule 900.2NY (87) defining “User” as “any ATP Holder that is authorized to obtain access to the System pursuant to Rule 902.1NY.”

⁵ See Securities Exchange Act Release No. 73280 (October 1, 2014), 79 FR 60553.

Section 19(b)(2) of the Act ⁶ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is November 21, 2014.⁷ The Commission is extending this 45-day time period.

⁶ 15 U.S.C. 78s(b)(2).

⁷ On November 19, 2014, the Exchange consented to an extension of this time period until November 29, 2014. See 15 U.S.C. 78s(b)(2)(A)(ii)(II).

The Commission finds it appropriate to designate a longer period within which to take action on the proposed rule change so that it has sufficient time to consider this proposed rule change. The proposed rule change, if approved, would authorize the Exchange to share any User-designated risk settings in Exchange systems with the Clearing Member that clears transactions on behalf of the User.

Accordingly, the Commission, pursuant to Section 19(b)(2) of the Act,⁸ designates January 5, 2015, as the date by which the Commission should either approve or disapprove, or institute proceedings to determine whether to disapprove, the proposed rule change (File No. SR-NYSEMKT-2014-81).

⁸ Id.

For the Commission, by the Division of Trading and Markets, pursuant to delegated authority.⁹
⁹ 17 CFR 200.30-3(a)(31).
Kevin M. O'Neill,
Deputy Secretary.

[FR Doc. 2014-28082 Filed 11-26-14; 8:45 am]

BILLING CODE 8011-01-P